DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 22, 2021.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on June 2, 2021.
Donald P. Burger,
Chief, General Approvals and Permits Branch.

Application No. | Applicant | Regulation(s) affected | Nature of the special permits thereof
Special Permits Data
11947-M | Patts Fabrication, Inc | 173.241, 173.242, 173.243, 177.834(h) | To modify the special permit to authorize additional hazmat to be transported. (mode 1).
12240-M | Spence Air Service | 172.101(j), 172.200, 172.204(c)(3), 172.301, 173.27(b)(1), 175.33, 175.75(b) | To modify the special permit to waive certain marking and shipping paper requirements. (mode 5).
13173-M | Luxfer Canada Limited | 172.101(j), 173.302a(a)(1), 180.205(g) | To modify the special permit to authorize use the manufacture, marking, sale, and use of non-DOT specification fully wrapped carbon-fiber reinforced aluminum lined cylinders which are manifolded and permanently mounted in a protective frame for the transportation in commerce of the materials authorized by this special permit and authorize the use of a pneumatic proof pressure test for periodic requalification. (modes 1, 2, 3, 4).
13220-M | Entegris, Inc | 173.302, 173.302c | To modify the special permit by authorizing additional carbon steels specified for the cylindrical shell of the pressure vessel. (modes 1, 2, 3).
14518-M | Federal Cartridge Company | 172.301(c), 173.56(b), 173.62 | To modify the special permit to authorize primers to be shipped without an EX approval. (mode 1).
16231-M | Thales Alenia Space | 172.101(j), 173.301(f), 173.302a(a)(1), 173.304a(a)(2) | To modify the special permit to authorize additional 2.3 hazmat. (modes 1, 3, 4).
20279-M | City Carbonic LLC | 180.207(d)(1) | To modify the special permit to remove specific manufacturer applicability to the manufacture of authorized cylinders. (modes 1, 2, 3, 4, 5).
21069-M | Catalina Composites, Inc | 173.302a, 178.71(l)(1) | To modify the special permit to authorize ISO 9712 as alternative to ISO 11515:2013 Section 9.1.1 certification. (modes 1, 2, 3, 4).

[FR Doc. 2021-11876 Filed 6-4-21; 8:45 am]

BILLING CODE P